FEDERAL COMMUNICATIONS COMMISSION

[Report No. 2783]

Petitions for Reconsideration of Action in Rulemaking Proceeding

July 27, 2006.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by August 18, 2006. See Section 1.4(b)(1) of the Commission's rules (47 CFR 1.4(b)(1)). Replies to an opposition must be filed within 10 days after the time for filing oppositions have expired.

Subject: In the Matter of Amendment of Parts 1, 21, 73, 74 and 101 of the Commission's Rules to Facilitate the Provision of Fixed and Mobile Broadband Access, Educational And Other Advanced Services in the 2150-2162 and 2500-2690 MHz Bands (WT Docket No. 03-66).

Part 1 of the Commission's Rules—Further Competitive Bidding Procedures (WT Docket No. 03-67).

Amendment of Parts 21 and 74 to Enable Multipoint Distribution Service and the Instructional Television Fixed Service to Engage in Fixed Two-Way Transmissions (MM Docket No. 97-217).

Amendment of Parts 21 and 74 of the Commission's Rules with Regard to Licensing in the Multipoint Distribution Service and in the Instructional Television Fixed Service for the Gulf of Mexico (WT Docket No. 02-68).

Promoting Efficient Use of Spectrum through Elimination of Barriers to the Development of Secondary Markets (WT Docket No. 00-230).

Review of the Spectrum Sharing Plan among Non-Geostationary Satellite Orbit Mobile Satellite Service Systems in the 1.6/2.4 GHz Bands (IB Docket No. 02-364).

Number of Petitions Filed: 10.

Marlene H. Dortch,
Secretary.

[FR Doc. E6-12545 Filed 8-2-06; 8:45 am]

BILLING CODE 6712-01-P